DEPARTMENT OF COMMERCE

National Oceanic and Atmospheric Administration

[I.D. 110802A]

Endangered Species; File No. 1405

AGENCY: National Marine Fisheries Service (NMFS), National Oceanic and Atmospheric Administration (NOAA), Commerce.

ACTION: Receipt of application.

SUMMARY: Notice is hereby given that Dr. Elizabeth Wenner, South Carolina Department of Natural Resources, Charleston, SC 29422-2559, has applied in due form for a permit to take loggerhead (Caretta caretta), Kemp's ridley (Lepidochelys kempi), green (Chelonia mydas), leatherback (Dermochelys coriacea), and hawksbill (Eretmochelys imbricata) sea turtles for purposes of scientific research.

DATES: Written or telefaxed comments must be received on or before December 26, 2002.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Dr. Tammy Adams or Carrie Hubard, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to capture up to 45 loggerhead, 10 Kemp's ridley, 5 green, 5 leatherback, and 5 hawksbill sea turtles annually during shallow water trawl surveys intended to provide fishery-independent data on seasonal abundance and biomass of all species that are accessible by high rise trawls. The turtles would be measured, flipper and PIT tagged, and released near the site of capture, unless it is determined they are in need of veterinary assistance to survive. Sea turtles held for veterinary care would be transferred to an appropriate treatment facility. The applicant also requests authorization for a combined total of three incidental mortalities of loggerhead and Kemp's ridley sea turtles and a single incidental mortality for each of the other three species. The applicant proposes to conduct these captures along the South Atlantic Bight from Cape Hatteras, NC to Cape Canaveral, FL. The permit is requested for a period of 5 years.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Dated: November 18, 2002.
Eugene T. Nitta,
Acting Chief, Permits, Conservation and Education Division, Office of Protected Resources, National Marine Fisheries Service.

[FR Doc. 02-29890 Filed 11-22-02; 8:45 am]

BILLING CODE 3510-22-S